DEPARTMENT OF HOMELAND SECURITY

Office of the Secretary

[Docket No. DHS-2015-0006]

Privacy Act of 1974; Department of Homeland Security Federal Emergency Management Agency 004 Non-Disaster Grant Management Information Files System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/Federal Emergency Management Agency—004 Grant Management Information Files System of Records” and rename it, “Department of Homeland Security/Federal Emergency Management Agency—004 Non-Disaster Grant Management Information Files System Records.” This system of records allows the Department of Homeland Security/Federal Emergency Management Agency to collect and maintain records from points of contact for state, local, tribal, territorial, and other entities applying for Federal Emergency Management Agency grant programs that are not disaster related. The Federal Emergency Management Agency collects grant management information to determine eligibility for Department of Homeland Security grant awards for non-disaster grants and for the issuance of awarded funds. As a result of a biennial review of this system, records have been updated within the (1) system name, (2) authorities, (3) purpose, and (4) routine uses. Additionally, this notice includes non-substantive changes to simplify the formatting and text of the previously published notice. This updated system will be included in the Department of Homeland Security's inventory of record systems.

DATES: Submit comments on or before April 13, 2015. This updated system will be effective April 13, 2015.

ADDRESSES: You may submit comments, identified by DHS-2015-0006 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received go to http://www.regulations.gov.

FOR FURTHER INFORMATION CONTACT: For general questions please contact: Eric M. Leckey (202) 212-5100, Privacy Officer, Federal Emergency Management Agency, Washington, DC 20472. For privacy issues please contact: Karen L. Neuman (202) 343-1717, Chief Privacy Officer, Privacy Office, U.S. Department of Homeland Security, Washington, DC 20528.

SUPPLEMENTARY INFORMATION:

I. Background

In accordance with the Privacy Act of 1974, 5 U.S.C. 552a, the Department of Homeland Security (DHS) Federal Emergency Management Agency (FEMA) proposes to update, rename, and reissue a current DHS system of records titled, “DHS/FEMA—004 Grant Management Information Files System of Records.” As part of the Department's process for reviewing and streamlining compliance documentation and to increase transparency, DHS/FEMA is proposing to: 1) update the system of records to include only non-disaster grant programs and FEMA assistance to state, local, tribal, territorial, or other entities; and 2) rename the system of records notice to DHS/FEMA—004 Non-Disaster Grant Management Information Files System of Records.

The goal of FEMA's non-disaster related grant programs is to provide funding to enhance the capacity of state, local, tribal, and territorial emergency responders to prevent, respond to, and recover from a weapon of mass destruction terrorism incident involving chemical, biological, radiological, nuclear, explosive devices, and cyber-attacks. FEMA's non-disaster grant programs currently provide funds to all 50 states, the District of Columbia, the Commonwealth of Puerto Rico, American Samoa, the Commonwealth of Northern Mariana Islands, Guam, the U.S. Virgin Islands, certain types of non-profit organizations, and some private entities. FEMA non-disaster related grant programs are directed at a broad spectrum of state and local emergency responders, including firefighters, emergency medical services, emergency management agencies, law enforcement, and public officials. The source of the information collected by FEMA generally comes from state, local, tribal and territorial governments, port authorities, transit authorities, non-profit organizations, and private companies seeking grant funding. The nature of data collected by FEMA includes basic public information about the agency or organization, the organization's financial information, and the organization's demonstrated need for the non-disaster grant funds.

Many of FEMA's non-disaster related grant programs implement objectives addressed in the Robert T. Stafford Disaster Relief and Emergency Assistance Act; a series of post 9/11 laws as outlined in the Authorities Section; the post-Katrina Emergency Management Reform Act (PKEMPRA) of 2006; and Homeland Security Presidential Directives (HSPD).

As part of the biennial review process for DHS/FEMA systems or records, DHS has updated and reissued this system of records as described below:

First, DHS/FEMA changed the system name to reflect the focus of the system of records on non-disaster-related grants. Second, DHS/FEMA streamlined the legal authorities to remove the reference to the National Flood Insurance Act and to add authorities under the Implementing Recommendations of the 9/11 Commission Act of 2007. Third, the purpose removes references to FEMA disaster related grants such as Public Assistance because these grants are part of the DHS/FEMA-009 Hazard Mitigation, Disaster Public Assistance, and Disaster Loan Programs system of records. Fourth, DHS/FEMA modified routine use (A) to include former employees of DHS and to eliminate redundant language; updated routine use (C) to specify that information may be shared with the General Services Administration (GSA); and modified routine uses (D) and (E) for clarification and non-substantive grammatical changes. Lastly, DHS/FEMA modified the record source categories to specifically reference the points of contact for the respective grant applicant organizations as a source of the information described in this notice.

Consistent with DHS's information-sharing mission, information stored in the DHS/FEMA-004 Non-Disaster Grant Management Information Files System of Records may be shared with other DHS components that have a need to know the information to carry out their national security, law enforcement, immigration, intelligence, or other homeland security functions. In addition, information may be shared with appropriate federal, state, local, tribal, territorial, foreign, or international government agencies consistent with the routine uses set forth in this system of records notice.

This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/FEMA-004 Non-Disaster Grant Management Information Files System of Records.

In accordance with 5 U.S.C. 552a(r), DHS has provided a report of this system of records to the Office of Management and Budget and to Congress.

System of Records

Department of Homeland Security (DHS)/Federal Emergency Management Agency (FEMA)-004.

System name:

DHS/FEMA-004 Non-Disaster Grant Management Information Files.

Security classification:

Unclassified.

System location:

DHS/FEMA maintains records at FEMA Headquarters in Washington, DC, and field offices. Additionally, DHS/FEMA maintains records in FEMA information technology systems such as the FEMA Non-Disaster (ND) Grants and Assistance to Firefighters Grants (AFG) systems.

Categories of individuals covered by the system:

Categories of individuals covered by this system include the respective points of contact (POC) for grant applications and awardees of grant funds. Awardees of grant funds include state, local, tribal, and territorial governments, port authorities, transit authorities, non-profit organizations, and private companies (in rare instances).

Categories of records in the system:

Categories of records in this system include:

• Name of Organization's Designated POC;

• POC Title;

• Grant applicant organization POC's office mailing address;

• Grant applicant organization POC's office phone number;

• Grant applicant organization POC's office cellphone number;

• Grant applicant organization POC's office fax number;

• Grant applicant organization POC's work email address;

• Organization Name;

• Organization's Federal Employer Identification Number (EIN);

• Organization's Dun & Bradstreet (B&D) Data Universal Numbering System (DUNS) Number (a unique nine digit numeric identifier assigned to each organization's location);

• Organization's Bank Routing Number; and

• Organization's Bank Account Number.

Authority for maintenance of the system:

Section 614 of the Robert T. Stafford Disaster Relief and Emergency Assistance Act (42 U.S.C. 5196c), as amended by Section 202, Title II of the Implementing Recommendations of the 9/11 Commission Act of 2007 (Pub. L. 110-053); Section 1809 of the Homeland Security Act of 2002 (6 U.S.C. 571 et seq.), as amended by Section 301(a) Title III of the Implementing Recommendations of the 9/11 Commission Act of 2007 (Pub. L. 110-053); Section 2003(a) of the Homeland Security Act of 2002 (6 U.S.C. 101 et seq.), as amended by Section 101, Title I of the Implementing Recommendations of the 9/11 Commission Act of 2007, (Pub. L. 110-053); Section 2004(a) of the Homeland Security Act of 2002 (6 U.S.C. 101 et seq.), as amended by Section 101, Title I of the Implementing Recommendations of the 9/11 Commission Act of 2007, (Pub. L. 110-053); Section 2004 of the Homeland Security Act of 2002 (6 U.S.C. 605 et seq.), as amended by Section 101, Title I of the Implementing Recommendations of the 9/11 Commission Act of 2007, (Pub. L. No. 110-53); Section 2005 of the Homeland Security Act of 2002 (6 U.S.C. 606 et seq.), as amended by Section 101, Title I of the Implementing Recommendations of the 9/11 Commission Act of 2007, (Pub. L. No. 110-53); the Post-Katrina Emergency Management Reform Act of 2006 (6 U.S.C. 723); Title III of Division D of the Consolidated Security, Disaster Assistance, and Continuing Appropriations Act, 2009 (Pub. L. 110-329); Title III of Division E of the Consolidated Appropriations Act, 2008 (Pub. L. 110-161); Section 1406, Title XIV of the Implementing Recommendations of the 9/11 Commission Act of 2007 (Pub. L. 110-053); Section 1513, Title XV of the Implementing Recommendations of the 9/11 Commission Act of 2007 (Pub. L. 110-053); Section 1532(a), Title XV of the Implementing Recommendations of the 9/11 Commission Act of 2007 (Pub. L. 110-053); 46 U.S.C. 70107; the Federal Financial Assistance Management Improvement Act of 1999 (Pub. L. 160-107); and National Historic Preservation Act of 1966, as amended, Pub. L. 89-665, § 102, 16 U.S.C. 470.

Purpose(s):

The purpose of this system is to assist in determining eligibility of awards for non-disaster related grants and for the issuance of awarded funds and allow DHS to contact individuals to ensure completeness and accuracy of grants and applications.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation, or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, or harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to and accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To an individual's employer or affiliated organization to the extent necessary to verify employment or membership status.

I. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

DHS/FEMA stores records in this system electronically or on paper in secure facilities in a locked drawer behind a locked door. The records are stored on magnetic disc, tape, and digital media.

Retrievability:

DHS/FEMA retrieves records may by the contact person covered by this system or the name of organization.

Safeguards:

DHS/FEMA safeguards records in this system in accordance with applicable rules and policies, including all applicable DHS automated systems security and access policies. DHS/FEMA imposes strict controls to minimize the risk of compromising the information that is being stored. DHS/FEMA limits access to the computer system containing the records in this system to those individuals who have a need-to-know the information for the performance of their official duties and who have appropriate clearances or permissions.

Retention and disposal:

DHS/FEMA retains grant application information for audit, oversight operations, and appeal purposes.

In accordance with Government Records Schedule (GRS) 3, Item 14, FEMA destroys grant administrative records and hard copies of unsuccessful grant applications files after two years. In accordance with GRS 3, Item 13, FEMA stores electronically received and processed copies of unsuccessful grant application files for 3 years from the date of denial and then deleted.

In accordance with National Archives and Records Administration (NARA) Authority N1-311-95-001, Item 1, FEMA maintains grant project records for three years after the end of the fiscal year that the grant or agreement is finalized or when no longer needed, whichever is sooner.

In accordance with NARA Authority N1-311-95-001, Item 3, FEMA retires grant final reports to the Federal Records Center (FRC) three years after cutoff and transfers them to NARA 20 years after cutoff. In accordance with NARA Authority N1-311-95-001, Item 2; N1-311-01-008, Item 1; and N1-311-04-001, Item 1, FEMA stores all other grant records for six years and three months from the date of closeout (when closeout is the date FEMA closes the grant in its financial system) and final audit and appeals are resolved and then deleted.

The customer service assessment forms that have been filled out and returned by disaster assistance applicants are temporary records that are destroyed upon transmission of the final report, per NARA Authority N1-311-00-001, Item 1.

The statistical and analytical reports resulting from these assessments are temporary records that are retired three years after the final report cutoff and destroyed 20 years after the report cutoff per NARA Authority N1-311-00-001, Item 2. The assessment results database are temporary records that are destroyed when no longer needed for analysis purposes, per NARA Authority N1-311-00-001, Item 3.

System Manager and address:

Deputy Assistant Administrator, Grant Program Directorate, FEMA, 500 C Street SW., Washington, DC 20472.

Notification procedure:

Individuals seeking notification of and access to any record contained in this system of records, or seeking to contest its content, may submit a request in writing to the FEMA FOIA Officer, whose contact information can be found at http://www.dhs.gov/foia under “Contacts.” If an individual believes more than one component maintains Privacy Act records concerning him or her, the individual may submit the request to the Chief Privacy Officer and Chief Freedom of Information Officer, Department of Homeland Security, 245 Murray Drive SW., Building 410, STOP-0655, Washington, DC 20528.

When seeking records about yourself from this system of records or any other Departmental system of records your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition you should:

• Explain why you believe the Department would have information on you,

• Identify which component(s) of the Department you believe may have the information about you;

• Specify when you believe the records would have been created; and

• Provide any other information that will help the FOIA staff determine which DHS component agency may have responsive records; and

If your request is seeking records pertaining to another living individual, you must include a statement from that individual certifying his/her agreement for you to access his/her records.

Without this bulleted information the component(s) will not be able to conduct an effective search, and your request may be denied due to lack of specificity or lack of compliance with applicable regulations.

Record access procedures:

See “Notification procedure” above.

Contesting record procedures:

See “Notification procedure” above.

Record source categories:

DHS/FEMA obtains records from grantees, applicants for award, grant applicants' points of contact, and grant program monitors.

Exemptions claimed for the system:

None.

Dated: February 20, 2015.
Karen L. Neuman,
Chief Privacy Officer, Department of Homeland Security.

[FR Doc. 2015-05799 Filed 3-12-15; 8:45 am]

BILLING CODE 9110-17-P